DEPARTMENT OF ENERGY

Federal Energy Regulatory Commission

[Project No. 2212-049]

Notice of Application for Temporary Variance and Soliciting Comments, Motions To Intervene, and Protests: Domtar Paper Company, LLC

Take notice that the following hydroelectric application has been filed with the Commission and is available for public inspection:

a. Types of Application: Temporary Variance from license Article 402 and Reservoir Drawdown Plan for Article 404.

b. Project No.: P-2212-049.

c. Date Filed: June 10, 2016.

d. Applicants: Domtar Paper Company, LLC.

e. Name of Projects: Rothschild Hydroelectric Project.

f. Location: The project is located on the Wisconsin River, in Marathon County, Wisconsin.

g. Filed Pursuant to: Federal Power Act, 16 U.S.C. 791a-825r.

h. Applicant Contact: Mr. Steve Lewens, Domtar Paper Company, LLC, 200 North Grand Avenue, Rothschild, WI 54474, (715) 355-6268.

i. FERC Contact: Mr. Ashish Desai, (202) 502-8370, Ashish.Desai@ferc.gov.

j. Deadline for filing comments, motions to intervene, and protests, is 15 days from the issuance date of this notice by the Commission. All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-2212-049) on any comments, motions, or recommendations filed.

k. Description of Request: The licensee filed a reservoir drawdown plan for Commission approval as required by Article 404 of the project license and is requesting a temporary variance to the reservoir elevation range required by Article 402 for Lake Wausau. Article 402 requires the licensee to maintain the reservoir surface elevation of Lake Wausau between 1160.6 feet and 1160.8 feet National Geodetic Vertical Datum. The licensee is proposing the drawdown to complete concrete repair and maintenance on the dam at the waterline. According to the licensee's plan, the licensee would drawdown the project reservoir starting no earlier than September 12, 2016 at a maximum daily rate of less than 4 inches per day. The drawdown would be completed no later than October 1, 2016, and the drawdown depth would not exceed 5 feet below the 1160.6-foot minimum elevation required by Article 402. The licensee proposes to begin refilling the reservoir no later than November 15, 2016 and would complete refilling to meet the minimum reservoir surface elevation by November 20, 2016.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of this application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 4, 2016.
Nathaniel J. Davis, Sr.,
Deputy Secretary.

[FR Doc. 2016-19069 Filed 8-10-16; 8:45 am]

BILLING CODE 6717-01-P